DEPARTMENT OF COMMERCE

National Oceanic and Atmospheric Administration

RIN 0648-XO92

Notice of Availability of the Marine Mammal Health and Stranding Response Program Record of Decision

AGENCY: National Marine Fisheries Service (NMFS), National Oceanic and Atmospheric Administration (NOAA), Commerce.

ACTION: Notice of Availability (NOA) of Record of Decision.

SUMMARY: The National Marine Fisheries Service (NMFS) announces the availability of the Record of Decision (ROD) for the Marine Mammal Health and Stranding Response Program (MMHSRP). This ROD announces NMFS' decisions for implementing the MMHSRP. Pursuant to the National Environmental Policy Act (NEPA) and implementing regulations, NMFS prepared a Programmatic Environmental Impact Statement (PEIS) that evaluated the potential environmental and socioeconomic effects associated with alternatives for the MMHSRP's activities.

ADDRESSES: Comments or questions regarding the ROD can be sent to David Cottingham, Chief, Marine Mammal and Sea Turtle Division, Office of Protected Resources, National Marine Fisheries Service, 1315 East-West Highway, Room 13635, Silver Spring, MD 20910.

FOR FURTHER INFORMATION CONTACT: Sarah Howlett, Fishery Biologist, NMFS, at (301) 713-2322; facsimile at (301) 427-2522.

SUPPLEMENTARY INFORMATION: A copy of the ROD and the Final PEIS are available at: http://www.nmfs.noaa.gov/pr/health/eis.htm.

Dated: May 1, 2009.
Katy M. Vincent,
Acting Deputy Director, Office of Protected Resources, National Marine Fisheries Service.

[FR Doc. E9-10676 Filed 5-7-09; 8:45 am]

BILLING CODE S